DEPARTMENT OF JUSTICE

Drug Enforcement Administration

Chantal F. Nouvellon, D.O.; Decision and Order

On April 2, 2025, the Drug Enforcement Administration (DEA or Government) issued an Order to Show Cause (OSC) to Chantal F. Nouvellon, D.O. (Registrant). Request for Final Agency Action (RFAA), Exhibit (RFAAX) 1, at 1, 4. The OSC proposed the revocation of Registrant's Certificate of Registration Nos. BN5595775 and FN5439016, alleging that Registrant's registrations should be revoked because Registrant is “currently without authority to handle controlled substances in Massachusetts and New Hampshire, the states in which [she is] registered with DEA.” Id. at 2 (citing 21 U.S.C. 824(a)(3)).

The OSCs notified Registrant of her right to file with DEA a written request for hearing, and that if she failed to file such a request, she would be deemed to have waived her right to a hearing and be in default. Id. (citing 21 CFR 1301.43). Here, Registrant did not request a hearing, and the Agency finds that he is in default. RFAA, at 3.¹ “A default, unless excused, shall be deemed to constitute a waiver of the registrant's/applicant's right to a hearing and an admission of the factual allegations of the [OSC].” 21 CFR 1301.43(e).

¹ Based on the Government's submissions in its RFAA dated July 7, 2025, the Agency finds that service of the OSC on Registrant was adequate. The included declaration from a DEA Diversion Investigator (DI) indicates that on April 4, 2025, the DI attempted to personally serve Registrant at her residence but was unsuccessful. RFAAX 2, at 2. The following day, the DI received a phone call from Registrant's attorney regarding a separate matter, and the attorney stated that he would accept service on Registant's behalf. Id. On April 6, 2025, the DI emailed a copy of the OSC to the attorney and the attorney confirmed receipt on April 7, 2025. However, on May 21, 2025, the DI was informed by the attorney that while he accepted service of the OSC on behalf of Registrant, he never represented Registrant in this administrative matter. Id. The DI then emailed Registrant a copy of the OSC that same day, to which Registrant later responded stating, “I have no idea what this means as I am not prescribing since my suspension.” Id. at 3. The DI responded stating the instructions were included within the OSC documents but received no further response from Registrant. Id.

Further, “[i]n the event that a registrant . . . is deemed to be in default . . . DEA may then file a request for final agency action with the Administrator, along with a record to support its request. In such circumstances, the Administrator may enter a default final order pursuant to [21 CFR] 1316.67.” Id. at 1301.43(f)(1). Here, regarding both of Registrant's DEA registrations, the Government has requested final agency action based on Registrant's default pursuant to 21 CFR 1301.43(c), (f), and 1301.46. RFAA, at 1; see also 21 CFR 1316.67.

Findings of Fact

The Agency finds that, in light of Registrant's default, the factual allegations in the OSC are deemed to be admitted. According to the OSC, on or about October 17, 2024, Registrant's Massachusetts medical license was suspended. RFAAX 1, at 2. According to Massachusetts online records, of which the Agency takes official notice,² Registrant's Massachusetts medical license remains suspended. Massachusetts Board of Registration in Medicine License Verification, https://findmydoctor.mass.gov/ (last visited date of signature of this Order).

² Under the Administrative Procedure Act, an agency “may take official notice of facts at any stage in a proceeding—even in the final decision.” United States Department of Justice, Attorney General's Manual on the Administrative Procedure Act 80 (1947) (Wm. W. Gaunt & Sons, Inc., Reprint 1979).

Further, according to the OSC, on Decemeber 20, 2024, Registrant's New Hampshire medical license was also suspended. Id. According to New Hampshire online records, of which the Agency takes official notice, Registrant's New Hampshire medical license remains suspended. New Hampshire Online Licensing Person Search, https://forms.nh.gov/licenseverification/Search.aspx (last visited date of signature of this Order). Accordingly, the Agency finds that Registrant is not licensed to practice medicine in Massachusetts or New Hampshire, the states in which she is registered with DEA.³

³ Pursuant to 5 U.S.C. 556(e), “[w]hen an agency decision rests on official notice of a material fact not appearing in the evidence in the record, a party is entitled, on timely request, to an opportunity to show the contrary.” The material fact here is that Registrant, as of the date of this Order, is not licensed to practice medicine in Massachusetts or New Hampshire. Accordingly, Registrant may dispute the Agency's finding by filing a properly supported motion for reconsideration of findings of fact within fifteen calendar days of the date of this Order. Any such motion and response shall be filed and served by email to the other party and to the Office of the Administrator, Drug Enforcement Administration, at dea.addo.attorneys@dea.gov.

Discussion

Pursuant to 21 U.S.C. 824(a)(3), the Attorney General is authorized to suspend or revoke a registration issued under 21 U.S.C. 823 “upon a finding that the registrant . . . has had his State license or registration suspended . . . [or] revoked . . . by competent State authority and is no longer authorized by State law to engage in the . . . dispensing of controlled substances.” With respect to a practitioner, DEA has also long held that the possession of authority to dispense controlled substances under the laws of the state in which a practitioner engages in professional practice is a fundamental condition for obtaining and maintaining a practitioner's registration. Gonzales v. Oregon, 546 U.S. 243, 270 (2006) (“The Attorney General can register a physician to dispense controlled substances `if the applicant is authorized to dispense . . . controlled substances under the laws of the State in which he practices.' . . . The very definition of a `practitioner' eligible to prescribe includes physicians `licensed, registered, or otherwise permitted, by the United States or the jurisdiction in which he practices' to dispense controlled substances. § 802(21).”). The Agency has applied these principles consistently. See, e.g., James L. Hooper, M.D., 76 FR 71371, 71372 (2011), pet. for rev. denied, 481 F. App'x 826 (4th Cir. 2012); Frederick Marsh Blanton, M.D., 43 FR 27616, 27617 (1978).⁴

⁴ This rule derives from the text of two provisions of the Controlled Substances Act (CSA). First, Congress defined the term “practitioner” to mean “a physician . . . or other person licensed, registered, or otherwise permitted, by . . . the jurisdiction in which he practices . . ., to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1). Because Congress has clearly mandated that a practitioner possess state authority in order to be deemed a practitioner under the CSA, DEA has held repeatedly that revocation of a practitioner's registration is the appropriate sanction whenever he is no longer authorized to dispense controlled substances under the laws of the state in which he practices. See, e.g., James L. Hooper, M.D., 76 FR at 71371-72; Sheran Arden Yeates, M.D., 71 FR 39130, 39131 (2006); Dominick A. Ricci, M.D., 58 FR 51104, 51105 (1993); Bobby Watts, M.D., 53 FR 11919, 11920 (1988); Frederick Marsh Blanton, M.D., 43 FR at 27617.

According to Massachusetts law, “dispense” means “to deliver a controlled substance to an ultimate user or . . . to the agent of an ultimate user . . . by a practitioner or pursuant to the order of a practitioner, including the prescribing and administering of a controlled substance and the packaging, labeling, or compounding necessary for such delivery.” Mass. Gen. Laws ch. 94C, § 1 (2025). Further, a “practitioner” is “[a] physician . . . or other person registered to distribute, dispense, conduct research with respect to, or use in teaching or chemical analysis, a controlled substance in the course of professional practice or research in the commonwealth.” Id.

According to New Hampshire law, “dispense” means “to distribute, leave with, give away, dispose of, deliver, or sell one or more doses of and shall include the transfer of more than a single dose of a medication . . . ” and “prescribe” means “order or designate a remedy or any preparation containing controlled drugs.” N.H. Rev. Stat. Ann. § 318-B:1 VIII, XXVII (2025). Further, a “practitioner” means “any person who is lawfully entitled to prescribe, administer, dispense or distribute controlled drugs to patients” and a “prescription” means “an oral, written, or facsimile or electronically transmitted order for any controlled drug or preparation issued by a licensed practitioner to be compounded and dispensed by a pharmacist and delivered to a patient for a medicinal or therapeutic purpose arising from a practitioner-patient relationship.” Id. § 318-B:1 XXVI, XXVIII.

Here, the undisputed evidence in the record is that Registrant is not currently licensed to practice medicine in either Massachusetts or New Hampshire. As discussed above, an individual must be a licensed practitioner to handle controlled substances in both Massachusetts and New Hampshire. Thus, because Registrant lacks authority to practice medicine in both Massachusetts and New Hampshire, and therefore, is not authorized to handle controlled substances in either Massachusetts or New Hampshire, Registrant is not eligible to maintain a DEA registration in either jurisdiction. Accordingly, the Agency will order that Registrant's respective DEA registration in each jurisdiction be revoked.

Order

Pursuant to 28 CFR 0.100(b) and the authority vested in me by 21 U.S.C. 824(a), I hereby revoke DEA Certificates of Registration Nos. BN5595775 and FN5439016 issued to Chantal F. Nouvellon, D.O. Further, pursuant to 28 CFR 0.100(b) and the authority vested in me by 21 U.S.C. 823(g)(1), I hereby deny any pending applications of Chantal F. Nouvellon, D.O., to renew or modify these registrations, as well as any other pending application of Chantal F. Nouvellon, D.O., for additional registration in either Massachusetts or New Hampshire. This Order is effective November 19, 2025.

Signing Authority

This document of the Drug Enforcement Administration was signed on October 9, 2025, by Administrator Terrance Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-19600 Filed 10-17-25; 8:45 am]

BILLING CODE 4410-09-P